DEPARTMENT OF LABOR

Office of the Secretary

Submission for OMB Review: Comment Request

April 28, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Occupational Noise Exposure (29 CFR 1910.95).

OMB Number: 1218-0048.

Frequency: On occasion.

Type of Response: Recordkeeping; reporting; and third party disclosure.

Affected Public: Business or other for-profit; Federal Government; and State, local, or tribal government.

Number of Respondents: 379,512.

Number of Annual Responses: 25,082,463.

Estimated Time Per Response: Varies from 2 minutes to notify employees when noise exposure exceeds the 8-hour time-weighted average of 85 decibels to 16 hours for firms with 250 or more employees to conduct area monitoring.

Total Burden Hours: 5,175,645.

Total Annualized Capital/Startup Costs: $0.

Total Annual Costs (Operating/Maintaining Systems or Purchasing Services): $98,814,861.

Description: The information collection requirements specified in 29 CFR 1910.95 (the Noise Standard) protect employees from suffering material hearing impairment. The information collection requirements of the Noise Standard include conducting noise monitoring; notifying employees when they are exposed at or above an 8-hour time-weighted average of 85 decibels; providing employees with initial and annual audiograms; notifying employees of a loss in hearing based on comparing audiograms; training employees on the effects of noise exposure and employee audiometric examinations, maintaining records of workplace noise exposure and employee audiograms; and allowing employees and OSHA to access to materials and records required by the Standard.

Agency: Occupational Safety and Health Administration.

Type of Review: Extension of currently approved collection.

Title: Construction Fall Protection Plans and Training Requirements (29 CFR 1926.502 and 1926.503).

OMB Number: 1218-0197.

Frequency: On occasion.

Type of Response: Recordkeeping.

Affected Public: Business or other for-profit; Federal Government; and State, local, or tribal government.

Number of Respondents: 250,000.

Number of Annual Responses: 8,304,931.

Estimated Time Per Response: Varies from 5 minutes for a qualified person to certify safety nets and safety-net installations to 1 hour to develop a fall protection plan.

Total Burden Hours: 894,394.

Total Annualized capital/startup costs: $0.

Total Annual Costs (operating/maintaining systems or purchasing services): $0.

Description: 29 CFR 1926.502 and 1926.503 allow employers to develop alternative procedures to the use of conventional fall protection systems when the systems are infeasible or create a greater hazard. The alternative procedures (plan) must be written. Also, employers who use safety net systems may certify that the installation meets the standard's criteria in lieu of performing a drop-test on the net. In addition, employers are required to prepare training certification records for their employees. The plan and certification records ensure that employers comply with the requirements to protect workers from falls, which account for the largest number of fatalities among construction workers.

Agency: Occupational Safety and Health Administration.

Type of Review: Extension of currently approved collection.

Title: Derricks (29 CFR 1910.181).

OMB Number: 1218-0222.

Frequency: On occasion; semi-annually; monthly; and annually.

Type of Response: Recordkeeping and third party disclosure.

Affected Public: Business or other for-profit; not-for-profit institutions; Federal Government; and State, local, or tribal government.

Number of Respondents: 10,000.

Number of Annual Responses: 115,140.

Estimated Time Per Response: Varies from 1 minute to maintain rated load charts to 10 minutes to inspect rope on derricks.

Total Burden Hours: 25,104.

Total Annualized capital/startup costs: $0.

Total Annual Costs (operating/maintaining systems or purchasing services): $0.

Description: 29 CFR 1910.181 specifies several paperwork requirements. The following sections describe who uses the information collected under each requirement, as well as how they use it. The purpose of these requirements is to prevent death and serious injuries among employees by ensuring that the derrick is not used to lift loads beyond its rated capacity and that all the ropes are inspected for wear and tear.

Paragraph (c)(1) requires that for permanently installed derricks a clearly legible rating chart be provided with each derrick and securely affixed to the derrick. Paragraph (c)(2) requires that for non-permanent installations, the manufacturer provide sufficient information from which capacity charts can be prepared by the employer for the particular installation. The capacity charts must be located at the derrick or at the jobsite office. The data on the capacity charts provide information to the employees to assure the derricks are used as designed and not overloaded or used beyond the range specified in the charts.

Paragraph (g)(1) requires employers to thoroughly inspect all running rope in use, and do so at least once a month. In addition, before using rope which has been idle for at least a month, it must be inspected as prescribed by paragraph (g)(3) and a record prepared to certify that the inspection was done.

The certification records must include the inspection date, the signature of the person conducting the inspection, and the identifier of the rope inspected. Employers must keep the certification records on file and available for inspection. The certification records provide employers, employees, and OSHA compliance officers with assurance that the ropes are in good condition.

Paragraphs (c) and (g) require the disclosure of charts and inspection certification records if requested during an OSHA inspection.

Ira L. Mills,
Departmental Clearance Officer.

[FR Doc. 04-10270 Filed 5-5-04; 8:45 am]

BILLING CODE 4510-26-P